DEPARTMENT OF TRANSPORTATION

Federal Aviation Administration

14 CFR Part 39

[Docket No. FAA-2015-0831; Directorate Identifier 2014-NM-061-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A318 and A319 series airplanes, A320-211, -212, -214, -231, -232, and -233 airplanes, and A321 series airplanes. The NPRM proposed to require an inspection to identify the part number and serial number of the main landing gear (MLG) sliding tubes installed on the airplane; and inspection of affected chromium plates for damage; an inspection of affected sliding tube axles for damage; and replacement of the sliding tube if necessary. The NPRM was prompted by a report of a rupture of a MLG sliding tube axle. This action revises the NPRM by removing certain service information that does not adequately address the identified unsafe condition and revising the compliance method. We are proposing this supplemental NPRM (SNPRM) to detect and correct cracks in the axle and (partial) detachment of the axle and wheel from the sliding tube, which could result in failure of an MLG. Since these actions impose an additional burden over those proposed in the NPRM, we are reopening the comment period to allow the public the chance to comment on these proposed changes.

DATES: We must receive comments on this SNPRM by August 12, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0831; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-0831; Directorate Identifier 2014-NM-061-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to all Airbus Model A318 and A319 series airplanes, A320-211, -212, -214, -231, -232, and -233 airplanes, and A321 series airplanes. The NPRM published in the Federal Register on April 24, 2015 (80 FR 22939) (“the NPRM”). The NPRM was prompted by a report of a rupture of a MLG sliding tube axle. The NPRM proposed to require an inspection to identify the part number and serial number of the MLG sliding tubes installed on the airplane; and an inspection of the axle on certain MLG sliding tubes for damage, and replacement of the sliding tube if necessary.

Actions Since Previous NPRM Was Issued

Since we issued the NPRM, we have determined that Messier-Bugatti-Dowty Service Bulletin 200-32-313, dated February 25, 2013, including Appendices A, B, and C, dated February 25, 2013; and Service Bulletin 201-32-62, including Appendices A, B, and C, dated February 25, 2013; do not adequately address the identified unsafe condition because this service information does not include all Required for Compliance steps required in Airbus Service Bulletin A320-32-1416, including Appendix 01, dated March 10, 2014. Therefore, this SNPRM proposes revising the service information specified for accomplishing the proposed actions.

The European Aviation Safety Agency (EASA), which is the Technical Agent for the Member States of the European Union, has issued EASA Airworthiness Directive 2014-0058, dated March 11, 2014 (referred to after this as the Mandatory Continuing Airworthiness Information, or “the MCAI”), to correct an unsafe condition for all Airbus Model A318 and A319 series airplanes, A320-211, -212, -214, -231, -232, and -233 airplanes, and A321 series airplanes. The MCAI states:

A main landing gear (MLG) sliding tube axle rupture occurred in service. Investigation of the affected part showed that this failure was due to an abnormal grinding operation during overhaul by a certain maintenance and repair organization located in Singapore. A population of MLG sliding tubes was subsequently identified whose axles may have been subject to this grinding operation, which may have resulted in areas of residual stress on the axles on the MLG sliding tubes. In addition, the MSN [manufacturer serial number] of the aeroplanes which are known to have had the affected parts installed have been identified.

This condition, if not detected and corrected, could lead to cracks in the axle and (partial) detachment of axle and wheel from the sliding tube, possibly resulting in failure of a MLG with consequent damage to the aeroplane and injury to occupants.

To address this potential unsafe condition, Messier-Bugatti-Dowty, the MLG gear manufacturer, issued Service Bulletin (SB) 200-32-313 and SB 201-32-62 [both dated February 25, 2013], providing inspection instructions and criteria for removal from service of the affected MLG sliding tubes.

For the reasons described above, this [EASA] AD requires a one-time Special Detailed Inspection (SDI) of the axle on the affected MLG sliding tubes and, depending on findings, replacement of the MLG sliding tube.

The SDI includes a detailed visual inspection of the chromium plate for damage, and a Barkhausen noise inspection of the sliding tube axles for damage.

You may examine the MCAI in the AD docket on the Internet at http://www.regulations.gov by searching for and locating Docket No. FAA-2015-0831.

Related Service Information Under 1 CFR Part 51

Airbus has issued Service Bulletin A320-32-1416, dated March 10, 2014, including Appendix 01, dated March 10, 2014. This service information describes procedures for inspecting MLG axles and brake flanges by doing a detailed visual inspection of the chromium plates for damage, and a Barkhausen noise inspection of the sliding tube axles for damage, and replacement of affected parts if necessary. This service information is reasonably available because the interested parties have access to it through their normal course of business or by the means identified in the ADDRESSES section.

Comments

We gave the public the opportunity to participate in developing this proposed AD. We considered the comments received.

Request To Revise Parts Installation Limitation

American Airlines requested that we revise paragraphs (l)(1) and (l)(2) of the proposed AD (in the NPRM) to allow installation of serviceable MLG sliding tubes that have passed the inspection required by paragraph (i) of the proposed AD (in the NPRM). American Airlines stated that it believes that this is the intent of the MCAI.

We agree with the commenter's request and have revised paragraphs (l)(1) and (l)(2) of this proposed AD accordingly.

Additional Changes to This SNPRM

We have removed Messier-Bugatti-Dowty Service Bulletin 200-32-313, including Appendices A, B, and C, dated February 25, 2013; and Service Bulletin 201-32-62, including Appendices A, B, and C, dated February 25, 2013; as sources of service information in this SNPRM. We have specified Airbus Service Bulletin A320-32-1416, including Appendix 01, dated March 10, 2014, as the appropriate source of service information for accomplishing the proposed actions.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Differences Between This SNPRM and the MCAI or Service Information

The effectivity in Airbus Service Bulletin A320-32-1416, including Appendix 01, dated March 10, 2014, does not include Model A318 series airplanes. This SNPRM specifies using the procedures specified for Model A319 series airplanes in Airbus Service Bulletin A320-32-1416, including Appendix 01, dated March 10, 2014, for accomplishing the proposed actions on Model A318 series airplanes.

Costs of Compliance

We estimate that this SNPRM affects 3 airplanes of U.S. registry.

We also estimate that it would take about 18 work-hours per product to comply with the basic requirements of this SNPRM. The average labor rate is $85 per work-hour. Based on these figures, we estimate the cost of this SNPRM on U.S. operators to be $4,590, or $1,530 per product.

In addition, we estimate that any necessary on-condition actions would take about 3 work-hours, for a cost of $255 per product. We have received no definitive data that would enable us to provide part cost estimates for the on-condition actions specified in this SNPRM. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0831; Directorate Identifier 2014-NM-061-AD.

(a) Comments Due Date

We must receive comments by August 12, 2016.

(b) Affected ADs

None.

(c) Applicability

This AD applies to the Airbus airplanes identified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 32, Landing gear.

(e) Reason

This AD was prompted by a report of a rupture of a main landing gear (MLG) sliding tube axle. We are issuing this AD to detect and correct cracks in the axle and (partial) detachment of the axle and wheel from the sliding tube, which could result in failure of an MLG.

(f) Compliance

Comply with this AD within the compliance times specified, unless already done.

(g) MLG Sliding Tube Part Number and Serial Number Identification

Within 3 months after the effective date of this AD: Do an inspection to identify the part number and serial number of the MLG sliding tubes installed on the airplane. A review of airplane maintenance records is acceptable in lieu of this inspection if the part number and serial number of the MLG sliding tubes can be conclusively determined from that review.

(h) Identification of Airplanes Not Affected by the Requirements of Paragraph (i) of This AD

An airplane with a manufacturer serial number (MSN) not listed in figure 1 to paragraph (h) of this AD is not affected by the requirements of paragraph (i) of this AD, provided it can be determined that no MLG sliding tube having a part number and serial number listed in table 1 to paragraphs (h), (i), (k)(1), (k)(2), (l)(1), and (l)(2) of this AD has been installed on that airplane since first flight of the airplane.

Figure 1 to Paragraph (h) of This AD
Affected Airplanes Listed by MSN
0179 | 0214 | 0296 | 0412 | 0558 | 0604
0607 | 0668 | 0704 | 0720 | 0726 | 0731
0754 | 0771 | 0799 | 0828 | 0841 | 0855
0909 | 0914 | 0925 | 0939 | 0986 | 1028
1030 | 1041 | 1070 | 1083 | 1093 | 1098
1108 | 1148 | 1294 | 1356 | 2713 | 2831

Table 1 to Paragraphs (h), (i), (k)(1), (k)(2), (l)(1), and (l)(2) of This AD—Affected MLG Sliding Tubes
Part No. | Serial No.
201160302 | 78B
201160302 | 1016B11
201160302 | 1144B
201371302 | B4493
201371302 | B4513
201371302 | SS4359
201371302 | B4530
201371302 | B4517
201371302 | B4568
201371302 | B4498
201371302 | 4490B
201371302 | B202-4598
201371302 | B165-4623
201371302 | B244-4766
201371302 | B267-4794
201371302 | B272-4813
201160302 | 1108B
201371304 | B041-4871
201371304 | B045-4869
201371304 | B001-4781
201371304 | B051-4892
201371304 | B110-1952
201371304 | B054-4891
201371304 | B063-4921
201371304 | B071-4911
201371304 | B071-4917
201371304 | B080-1933
201371304 | B117-5010
201371304 | B120-4989
201371304 | B132-2023
201371304 | B114-1956
201371304 | B208-2009
201371304 | B133-1947
201371304 | B154-5037
201371304 | B89 4952
201371304 | B129-1964
201371304 | B227-2010
201371304 | B170-5031
201371304 | B182-5047
201371304 | B239-2053
201371304 | B1401-2856
201371304 | B1813-3142
201371304 | B116-5004
201522353 | B011-149
201522350 | B014-25
201522350 | B019-56
201522350 | B019-57
201522350 | B021-69
201522350 | B022-60
201522353 | B03-111
201522353 | B03-110
201522353 | B112-317
201522353 | B174-351
201522353 | B179-392
201383350 | 4377B
201383350 | 4393B
201383350 | B1831
201383350 | B1832
201383350 | SS4355B
201383350 | SS4400B

(i) Inspections

For each MLG sliding tube, identified as required by paragraph (g) of this AD, having a part number and serial number listed in table 1 to paragraphs (h), (i), (k)(1), (k)(2), (l)(1), and (l)(2) of this AD: Within 3 months after the effective date of this AD, inspect affected MLG axles and brake flanges by doing a detailed visual inspection of the chromium plates for damage, and a Barkhausen noise inspection of the sliding tube axles for damage, in accordance with the Accomplishment Instructions of Airbus Service Bulletin A320-32-1416, including Appendix 01, dated March 10, 2014. For Model A318 series airplanes, use the procedures specified for Model A319 series airplanes in Airbus Service Bulletin A320-32-1416, including Appendix 01, dated March 10, 2014.

(j) Corrective Action

If, during any inspection required by paragraph (i) of this AD, any damage is detected: Before further flight, replace the MLG sliding tube with a serviceable tube, in accordance with the Accomplishment Instructions of Airbus Service Bulletin A320-32-1416, including Appendix 01, dated March 10, 2014. For Model A318 series airplanes, use the procedures specified for Model A319 series airplanes in Airbus Service Bulletin A320-32-1416, including Appendix 01, dated March 10, 2014.

(k) Definition of Serviceable Sliding Tube

For the purpose of this AD, a serviceable sliding tube is defined as a sliding tube that meets the criterion in either paragraph (k)(1) or (k)(2) of this AD.

(1) A sliding tube having a part number and serial number not listed in table 1 to paragraphs (h), (i), (k)(1), (k)(2), (l)(1), and (l)(2) of this AD.

(2) A sliding tube having a part number and serial number listed in table 1 to paragraphs (h), (i), (k)(1), (k)(2), (l)(1), and (l)(2) of this AD that has passed the inspections required by paragraph (i) of this AD.

(l) Parts Installation Prohibitions

(1) For airplanes that have an MLG sliding tube installed that has a part number and serial number listed in table 1 to paragraphs (h), (i), (k)(1), (k)(2), (l)(1), and (l)(2) of this AD: After an airplane is returned to service following accomplishment of the actions required by paragraphs (g), (h), and (i) of this AD, no person may install on any airplane an MLG sliding tube having a part number and serial number listed in table 1 to paragraphs (h), (i), (k)(1), (k)(2), (l)(1), and (l)(2) of this AD unless that sliding tube has passed the inspection required by paragraph (i) of this AD.

(2) For airplanes that, as of the effective date of this AD, do not have an MLG sliding tube installed that has a part number and serial number listed in table 1 to paragraphs (h), (i), (k)(1), (k)(2), (l)(1), and (l)(2) of this AD: No person may install on any airplane an MLG sliding tube having a part number and serial number listed in table 1 to paragraphs (h), (i), (k)(1), (k)(2), (l)(1), and (l)(2) of this AD unless that sliding tube has passed the inspection required by paragraph (i) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(3) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Special Flight Permits

Special flight permits may be issued in accordance with sections 21.197 and 21.199 of the Federal Aviation Regulations (14 CFR 21.197 and 21.199) to operate the airplane to a location where the airplane can be modified (if the operator elects to do so), provided the MLG remains extended throughout the flight.

(o) Related Information

(1) Refer to Mandatory Continuing Airworthiness Information (MCAI) EASA Airworthiness Directive 2014-0058, dated March 11, 2014, for related information. This MCAI may be found in the AD docket on the Internet at http://www.regulations.gov/#!documentDetail;D=FAA-2015-0831-0003.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on June 16, 2016.
Dionne Palermo,
Acting Manager, Transport Airplane Directorate, Aircraft Certification Service.

[FR Doc. 2016-14969 Filed 6-27-16; 8:45 am]

BILLING CODE 4910-13-P